DEPARTMENT OF ENERGY

Federal Energy Regulatory Commission

18 CFR Parts 125, 225, and 356

[Docket No. RM99-8-001; Order No. 617-A]

Preservation of Records of Public Utilities and Licensees, Natural Gas Companies, and Oil Pipeline Companies; Order Denying Rehearing

Issued November 9, 2000.

AGENCY: Federal Energy Regulatory Commission, DOE

ACTION: Order denying rehearing.

SUMMARY: Edison Electric Institute (EEI) filed a request for rehearing seeking revision of the Commission's Final Rule in Order No. 617, Preservation of Records of Public Utilities and Licensees, Natural Gas Companies, and Oil Pipeline Companies. The Commission denies rehearing.

ADDRESSES: Office of the Secretary, Federal Energy Regulatory Commission, 888 First Street, NE., Washington, DC 20426.

FOR FURTHER INFORMATION CONTACT:

Mary C. Lauermann (Technical Information), Office of the Executive Director, 888 First Street, NE., Washington, D.C. 20426, (202) 208-0087

Julia A. Lake (Legal Information), Office of the General Counsel, 888 First Street, NE., Washington, DC 20426, (202) 208-2019.

SUPPLEMENTARY INFORMATION:

I. Introduction

In this order, the Commission addresses a request for rehearing of Order No. 617, the final rule on the preservation of records of public utilities and licensees, natural gas companies, and oil pipeline companies.¹ In Order No. 617, the Commission amended Parts 125, 225, and 356 ² of its regulations in order to update, reduce, and clarify records retention requirements for jurisdictional public utilities and licensees, natural gas companies and oil pipeline companies. Order No. 617 is part of the Commission's ongoing program to update and eliminate burdensome and unnecessary requirements. These changes significantly reduce the burden of maintaining records for regulated companies.

¹ 65 FR 48148 (Aug. 7, 2000); III FERC Stats. & Regs. ¶ 31,105 (Jul. 21, 2000). The Commission issued a correction notice on August 15, 2000. See 65 FR 50638 (Aug. 21, 2000).

² 18 CFR Parts 125, 225, and 356.

For the reasons stated below, the Commission denies rehearing.

II. Background

On July 27, 2000, the Commission issued Order No. 617, revising the Commission's records retention regulations, which included revising the general instructions, revising the records retention periods, and removing all but two retention reserve items. Order No. 617, effective January 1, 2001, is part of the Commission's ongoing program to update and eliminate burdensome and unnecessary requirements.

A timely request for rehearing was filed by Edison Electric Institute (EEI) requesting: (1) Reduction of one retention period, and (2) revision of one section of regulatory text. These issues are addressed separately below.

III. Discussion

1. Reduction of Retention Period

Under the final rule, utilities and licensees must maintain plant records for as long as the plant is included in the company's accounting records.³ EEI argues that the new record retention period for schedule item 8(b)(1) of 25 years represents an increase in the retention period. EEI requests the Commission to reduce the record retention period for schedule item 8(b)(1) back to 6 years, as required under the prior regulations.

³ 18 CFR 125.2(g) and 18 CFR 125.3 item 8(b)(1).

The Commission has not increased the record retention period for schedule item 8(b)(1). The record retention period has always been a minimum of 25 years.⁴ The revised schedule item 8(b)(1) clarifies this 25-year retention period. The Commission recognized, however, that many plant items have a useful life longer than 25 years, and that other plant items are sold or retired in less than 25 years. The Commission is requiring companies to keep plant records until the facilities are permanently removed from service and retired from the accounting records. This revision recognizes that it is possible for companies to maintain plant records for shorter or longer periods than 25 years. The Commission, therefore, denies EEI's request for a reduction of the retention period for schedule item 8(b)(1).

⁴ See former 17 CFR 125.2(j) (“* * * records related to plant shall be retained a minimum of 25 years.”).

2. Revision of New § 125.2(i)

Section 125.2(i) of the final rule requires public utilities and licensees to assure that supporting cost information is available for services performed by or for associated or affiliated companies, including detailed information regarding the nature of the transaction, the amounts involved, and the accounts used to record the transaction. EEI continues to be concerned that the language in this section could be interpreted to expand the Commission's authority to records of utility affiliates in general, instead of just to records that relate to utility-affiliate transactions. EEI stated that the Commission's clarification provided in the preamble of the final rule was “very useful and informative,” and that the “clarification is valuable because it reduces .* * * ambiguity” and “reflects the ‘utility-affiliate' focus of the records to be maintained.” However, EEI's concern is that the clarification provided in the preamble should be incorporated into the regulatory text at § 125.2(i), and requests that the text be amended to include the clarification. EEI proposed the following revision to § 125.2(i):

Public utilities and licensees must assure the availability of records, to be retained by the originating entity, of services performed by a utility or licensee for associated or affiliated companies and vice versa, with supporting cost information for the periods indicated in section 125.3 as necessary, as they pertain to the cost of the services performed.

The Commission believes that EEI's suggested revision to the regulatory language in § 125.2(i) is unnecessary. We find that EEI's suggested revision, in fact, deletes clarifying language identifying the kind of information public utilities and licensees must retain. The regulatory text in the final rule clearly states the Commission's needs related to records retention for transactions between utilities and affiliates. The Commission, therefore, denies the request for this revision.

IV. Document Availability

In addition to publishing the full text of this document in the Federal Register, the Commission provides all interested persons an opportunity to view and/or print the contents of this document via the Internet through FERC's Home Page (http://www.ferc.fed.us) and in FERC's Public Reference Room during normal business hours (8:30 A.M. to 5:00 P.M. Eastern time) at 888 First Street, NE., Room 2A, Washington, DC 20426.

From FERC's Home Page on the Internet, this information is available in both the Commission's Issuance Posting System (CIPS) and the Records and Information Management System (RIMS).

—CIPS provides access to the texts of formal documents issued by the Commission since November 14, 1994.

—CIPS can be accessed using the CIPS link or the Energy Information Online icon. The full text of this document will be available on CIPS in ASCII and WordPerfect 8.0 format for viewing, printing, and/or downloading.

—RIMS contains images of documents submitted to and issued by the Commission after November 16, 1981. Documents from November 1995 to the present can be viewed and printed from FERC's Home Page using the RIMS link or the Energy Information Online icon. Descriptions of documents back to November 16, 1981, are also available from RIMS-on-the-Web; requests for copies of these and other older documents should be submitted to the Public Reference Room.

User assistance is available for RIMS, CIPS, and the Website during normal business hours from our Help line at (202) 208-2222 (e-mail to Webmaster@ferc.fed.us) or the Public Reference Room at (202) 208-1371 (e-mail to public.referenceroom@ferc.fed.us).

During normal business hours, documents can also be viewed and/or printed in FERC's Public Reference Room, where RIMS, CIPS, and the FERC Website are available. User assistance is also available.

By the Commission.
Linwood A. Watson, Jr.,
Acting Secretary.

[FR Doc. 00-29330 Filed 11-15-00; 8:45 am]

BILLING CODE 6717-01-P